FEDERAL RESERVE SYSTEM

Agency Information Collection Activities: Announcement of Board Approval Under Delegated Authority and Submission to OMB

AGENCY: Board of Governors of the Federal Reserve System.

SUMMARY: The Board of Governors of the Federal Reserve System (Board) is adopting a proposal to implement the Whistleblower Intake Guide (FR 30; OMB No. 7100-NEW).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Implementation of the Following Information Collection

Collection title: Whistleblower Intake Guide.

Collection identifier: FR 30.

OMB control number: 7100-NEW.

Dates: This information collection will be effective April 11, 2024.

General description of collection: The Whistleblower Intake Guide collects information regarding alleged misconduct or retaliation by a Board-supervised institution or an affiliated party of such institution. The information collected through the FR 30 assists in the Board's supervision of financial institutions.

Frequency: Event-generated.

Respondents: Employees of Board-supervised entities and members of the public.

Total estimated number of respondents: 5.

Estimated average hours per response: 0.5.

Total estimated annual burden hours: 3.¹

¹ More detailed information regarding this collection, including more detailed burden estimates, can be found in the OMB Supporting Statement posted at https://www.federalreserve.gov/apps/reportingforms/home/review. On the page displayed at the link, you can find the OMB Supporting Statement by referencing the collection identifier, FR 30.

Current actions: On September 8, 2023, the Board published a notice in the Federal Register (88 FR 62084) requesting public comment for 60 days on the implementation of the FR 30. The comment period for this notice expired on November 7, 2023. The Board did not receive any comments. The FR 30 will be implemented as originally proposed.

Board of Governors of the Federal Reserve System, March 6, 2024.
Michele Taylor Fennell,
Deputy Associate Secretary of the Board.

[FR Doc. 2024-05139 Filed 3-11-24; 8:45 am]

BILLING CODE 6210-01-P